FEDERAL HOUSING FINANCE BOARD

Sunshine Act Meeting Notice; Announcing an Open Meeting of the Board

Time and Date: 3 p.m. Wednesday, January 29, 2003.

Place: Board Room, Second Floor, Federal Housing Finance Board, 1777 F Street, NW., Washington, DC 20006.

Status: The entire meeting will be open to the public.

Matters to be Considered: • Rescission of Finance Board Resolutions Governing the Federal Home Loan Bank of Atlanta's Affordable Multifamily Participation Program.

• Community Investment Cash Advance—Approval of Claritas, Inc. as Data Source for Determining Area Median Incomes.

• Appointment of Federal Home Loan Bank Directors.

• Delegation of Authority.

Contact Person for More Information: Elaine L. Baker, Secretary to the Board, (202) 408-2837.

Arnold Intrater,
General Counsel

[FR Doc. 03-1778 Filed 1-22-03; 1:40 pm]

BILLING CODE 6725-01-P